FEDERAL RETIREMENT THRIFT INVESTMENT BOARD

Sunshine Act Notice

TIME AND DATE: 8 a.m. (e.d.t.), September 20, 2004.

PLACE: Second Floor Training Room, 1250 H Street, NW., Washington, DC.

STATUS: Parts will be open to the public and parts closed to the public.

MATTERS TO BE CONSIDERED:

Parts Open to the Public

1. Approval of the minutes of the August 23, 2004, Board member meeting.

2. Thrift Savings Plan activity report by the Executive Director.

3. FY 2004 expenditures, proposed FY 2005 budget, and FY 2006 estimate.

Parts Closed to the Public

4. Personnel matters.

CONTACT PERSON FOR MORE INFORMATION: Thomas J. Trabucco, Director, Office of External Affairs, (202) 942-1640.

Dated: September 9, 2004.
Elizabeth S. Woodruff,
Secretary to the Board, Federal Retirement Thrift Investment Board.

[FR Doc. 04-20690 Filed 9-9-04; 1:26 pm]

BILLING CODE 6760-01-P